SECURITIES AND EXCHANGE COMMISSION

Sunshine Act Meeting

Federal Register Citation of Previous Announcement: [To be Published].

Status: Closed meeting.

Place: 100 F Street, NE., Washington, DC.

Announcement of Additional Meeting: Additional Meeting (Week of February 12, 2007).

A Closed Meeting has been scheduled for Tuesday, February 13, 2007 at 12:30 p.m.

Commissioners and certain staff members who have an interest in the matter will attend the Closed Meeting.

The General Counsel of the Commission, or his designee, has certified that, in his opinion as set forth in 5 U.S.C. 552b(c)(10) and 17 CFR 200.402(a)(10), permit consideration of the scheduled matter at the Closed Meeting.

Commissioner Campos as duty officer, voted to consider the item listed for the closed meeting in closed session, and determined that no earlier notice thereof was possible.

The subject matter of the Closed Meeting scheduled for Tuesday, February 13, 2007 will be:

An adjudicatory matter.

At times, changes in Commission priorities require alterations in the scheduling of meeting items. For further information and to ascertain what, if any, matters have been added, deleted or postponed, please contact:

The Office of the Secretary at (202) 551-5400.

Dated: February 12, 2007.
Nancy M. Morris,
Secretary.

[FR Doc. 07-725 Filed 2-13-07; 11:06 am]

BILLING CODE 8010-01-P